INTERNATIONAL TRADE COMMISSION

[Investigation No. 332-600]

United States-Mexico-Canada Agreement (USMCA) Automotive Rules of Origin: Economic Impact and Operation, 2025 Report; Proposed Information Collection; Comment Request; The USMCA Automotive Rules of Origin Motor Vehicle Producer Questionnaire

AGENCY: United States International Trade Commission.

ACTION: Notice of request for public comments.

SUMMARY: In accordance with the provisions of the Paperwork Reduction Act of 1995, the U.S. International Trade Commission (Commission or USITC) hereby gives notice that it plans to submit a request for approval of a questionnaire to the Office of Management and Budget (OMB) for review and requests public comment on its draft proposed collection.

DATES: To ensure that the Commission will consider your comments, it must receive them no later than 60 days after publication of this notice in the Federal Register.

ADDRESSES: All Commission offices are in the U.S. International Trade Commission Building, 500 E Street SW, Washington, DC.

FOR FURTHER INFORMATION CONTACT: Please direct all questions to the project team via email at USMCAAutoROO@usitc.gov or via phone to Aaron Woodward at 202-205-2663.

The public record for this investigation may be viewed on the Commission's electronic docket (EDIS) at https://edis.usitc.gov. General information concerning the Commission may be obtained by accessing its internet address (https://www.usitc.gov). Hearing-impaired individuals are advised that information on this matter can be obtained by contacting the TDD terminal on 202-205-1810.

SUPPLEMENTARY INFORMATION: The information requested by the questionnaire is for use by the Commission in connection with Investigation No. 332-600, USMCA Automotive Rules of Origin: Economic Impact and Operation, 2025 Report, instituted under section 202A(g)(2) of the United States-Mexico-Canada Agreement Implementation Act (19 U.S.C. 4532(g)(2)) (USMCA Implementation Act). The USMCA Implementation Act requires the Commission to prepare a series of five biennial reports on the USMCA automotive rules of origin (ROOs) and their impact on the U.S. economy, effect on U.S. competitiveness, and relevancy considering recent technology changes, and to provide those reports to the President, the House Committee on Ways and Means, and the Senate Committee on Finance. The first of the reports was delivered on June 30, 2023, with four additional reports due in 2025, 2027, 2029, and 2031. This investigation was initiated on October 15, 2023, and the notice of investigation was published in the Federal Register on November 21, 2023 (88 FR 81100). The Commission will deliver its report to the President and Congress by July 1, 2025. The 2025 report will be the second of five reports. The Commission indicated in its notice of investigation that it will need to obtain data and information through a survey. The survey will assist the Commission in gathering responses and data from motor vehicle producers to determine the direct impacts of the ROOs on the aforementioned factors.

Summary of Proposal: The Commission intends to submit the following draft information collection plan to OMB and invites public comment.

(1) Number of forms submitted: 1.

(2) Title of forms: The USMCA Automotive Rules of Origin Motor Vehicle Producer Questionnaire.

(3) Type of request: New.

(4) Frequency of use: Industry questionnaire, single data gathering, scheduled for 2024.

(5) Description of respondents: North American motor vehicle producers with U.S. production operations.

(6) Estimated number of respondents: 30.

(7) Estimated total number of hours to complete the questionnaire per respondent: 10 hours.

(8) Information obtained from the questionnaire will be treated as confidential business information by the Commission and not disclosed in a manner that would reveal the individual operations of a business.

Method of Collection: Respondents will be sent a letter with a link and individual code for accessing the online form. Once the online form is complete, respondents will be directed to submit the form by selecting a submit button.

Request for Comments: Comments are invited on (1) the elements of the draft questionnaire; (2) whether the proposed collection of information is necessary; (3) the accuracy of the agency's estimate of the burden of the proposed information collection; (4) ways to enhance the quality, utility, and clarity of the information to be collected; and (5) ways to minimize the burden of the collection of information on respondents, including through the use of automated collection techniques or other forms of information technology.

The draft questionnaire and other supplementary documents may be downloaded from the USITC website at https://www.usitc.gov/USMCAAutoROO.

Any comments on the draft questionnaire should be sent via email at USMCAAutoROO@usitc.gov. Comments submitted in response to this notice will be summarized and included in the request for OMB approval of this information collection; they will also become a matter of public record. As such, proprietary or confidential business information should not be submitted as part of comments on the draft questionnaire.

By order of the Commission.
Issued: February 15, 2024.
Lisa Barton,
Secretary to the Commission.

[FR Doc. 2024-03553 Filed 2-21-24; 8:45 am]

BILLING CODE 7020-02-P